ENVIRONMENTAL PROTECTION AGENCY

40 CFR Part 52

[EPA-R05-OAR-2017-0165; FRL-9982-30—Region 5]

Air Plan Approval; Ohio; Approval of Sulfur Dioxide Regulations

AGENCY: Environmental Protection Agency (EPA).

ACTION: Proposed rule.

SUMMARY: The Environmental Protection Agency (EPA) is proposing to approve, under the Clean Air Act, Ohio's revised sulfur dioxide (SO2) regulations, which Ohio submitted to EPA on March 13, 2017. Ohio updated its regulations to correct facility information which has changed and to add new emission limits for selected sources in Lake and Jefferson Counties. The revised regulations do not impose substantive changes or additional emission restrictions upon the Ohio State Implementation Plan (SIP) except for the site-specific provisions which have been revised in response to Ohio's nonattainment area designations of August 5, 2013. EPA is proposing to approve the majority of the revised regulations which the state submitted. EPA proposes to take no action on a portion of one submitted rule, which has never been federally approved. EPA also proposes to remove one rule from the SIP, which Ohio rescinded and replaced in 2009.

DATES: Comments must be received on or before September 17, 2018.

ADDRESSES: Submit your comments, identified by Docket ID No. EPA-R05-OAR-2017-0165 at http://www.regulations.gov, or via email to Blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Mary Portanova, Environmental Engineer, Control Strategies Section, Air Programs Branch (AR-18J), Environmental Protection Agency, Region 5, 77 West Jackson Boulevard, Chicago, Illinois 60604, (312)353-5954, portanova.mary@epa.gov.

SUPPLEMENTARY INFORMATION: Throughout this document whenever “we,” “us,” or “our” is used, we mean EPA. This supplementary information section is arranged as follows:

I. Introduction

II. Review of Rules

A. Overview

B. Revisions to General Rules

C. Rules Addressing Nonattainment Areas

1. Lake County Area

2. Muskingum River Area (Morgan and Washington Counties)

3. Steubenville Area (Jefferson County)

D. County-Specific Issues

1. Cuyahoga County

2. Lorain County

3. Ross County

4. Wayne County

E. Removal of Rescinded Rule

III. What action is EPA taking?

IV. Incorporation by Reference

V. Statutory and Executive Order Reviews

I. Introduction

On March 13, 2017, Ohio submitted revisions to the Ohio Administrative Code Chapter 3745-18 (OAC 3745-18), effective on February 16, 2017, for incorporation by EPA into the Ohio SO2 SIP. OAC 3745-18 contains Ohio's air emission regulations for SO2, which include both statewide requirements and emission limits for each Ohio county. This submittal was the product of a comprehensive examination of the state's SO2 rules which Ohio undertook in accordance with its routine five-year rule review process. The state made a number of revisions to OAC 3745-18, updating facility data to match the current information in its operating permits database and removing requirements which only applied to facilities which have closed or units which have been removed from existing facilities. For several sources, Ohio retained the existing limits in OAC 3745-18, but separately issued federally enforceable permits containing tighter limits than those in the rule, or new provisions reflecting physical changes at the facility. Generally, these permits addressed changes which had occurred too late to include in the state's rulemaking action. The effect of EPA's approval of the revised OAC 3745-18 SIP rules submitted on March 13, 2017, would be to retain federal enforceability of both sets of limits for each source.

Ohio's March 13, 2017 submittal also included rules which Ohio had developed to address Clean Air Act (CAA) requirements for three 1-hour SO2 nonattainment areas. Ohio first adopted these new rules, which are found in OAC 3745-18-03, OAC 3745-18-04, OAC 3745-18-47, and OAC 3745-18-49, on October 13, 2015, and submitted the rules to EPA as part of the state's October 13, 2015, nonattainment SIP submittal. Later, Ohio made significant revisions and corrections to some of the nonattainment area rules. The state adopted the revised nonattainment area rules on February 6, 2017, and submitted them to EPA on March 13, 2017, within Ohio's larger five-year rule review package. EPA is proposing action on Ohio's entire March 13, 2017 submittal of revisions to OAC 3745-18, regarding their incorporation into the state's SO2 SIP. Separate action will address whether Ohio's revisions to OAC 3745-18-03, OAC 3745-18-04, OAC 3745-18-47, and OAC 3745-18-49 satisfy EPA's nonattainment planning requirements.

II. Review of Rules

A. Overview

Ohio's federally approved SO2 SIP contains six generally applicable chapters of OAC 3745-18 and 88 county-specific chapters. The six generally applicable chapters are OAC 3745-18-01, “Definitions and incorporation by reference,” OAC 3745-18-02, “Ambient air quality standards; sulfur dioxide,” OAC 3745-18-03, “Attainment dates and compliance time schedules,” OAC 3745-18-04, “Measurement methods and procedures,” OAC 3745-18-05, “Ambient and meteorological monitoring requirements,” and OAC 3745-18-06, “General emission limit provisions.” Specific emission limits for SO2 sources in each Ohio county are found in OAC 3745-18-07 (“Adams county emission limits”) through OAC 3745-18-94 (“Wyandot county emission limits”).

Ohio's March 13, 2017 SIP revision request included revised versions of all of these rules except OAC 3745-18-02 and OAC 3745-18-06. Ohio's federally approved SO2 SIP currently includes OAC 3745-18-02, “Ambient air quality standards; sulfur dioxide,” with an effective date of January 23, 2006. However, Ohio rescinded this rule in 2009 and moved its contents to a new rule. See section II E. for the discussion of EPA's proposed action regarding OAC 3745-18-02. Ohio's federally approved SO2 SIP also includes OAC 3745-18-06, with an effective date of February 17, 2011. Ohio did not submit any revisions to this rule. Therefore, the 2011 version of this rule is retained in Ohio's SIP.

Ohio's March 13, 2017 submittal updated OAC 3745-18 with current information for each listed facility, as confirmed by the state database. Some Ohio facilities have merged or changed ownership in recent years. Ohio updated the rules where necessary to reflect each facility's current name or ownership and the current location of the emission units that are subject to SO2 emission limits. Ohio removed some facilities entirely from the site-specific emission limit listings if the state had evidence confirming that the entire facility has closed, or that all the emission units at the facility which were subject to the site-specific emission limits have been removed or are no longer emitting SO2. If a facility's site-specific emission limits were removed, but the facility is still operating and could be subject to its general countywide limit, Ohio retained the facility's listing in the compliance date section of OAC 3745-18-03.

B. Revisions to General Rules

OAC 3745-18-01 contains definitions and references to test methods and other Federal requirements. Ohio updated the Code of Federal Regulations publication dates in this rule. EPA is proposing to approve OAC 3745-18-01.

OAC 3745-18-03 contains the compliance dates and schedules applicable to Ohio SO2 sources. Ohio has removed and reserved OAC 3745-18-03(A), which required attainment with the NAAQS by specific dates, because the county-specific attainment dates in OAC 3745-18-03(A)(2) have passed and Ohio found the requirements in OAC 3745-18-03(A)(1) duplicative of language in other state and Federal documents. Since the attainment date language was no longer contained in the rule, Ohio retitled OAC 3745-18-03 “Compliance time schedules.” Ohio added paragraphs in OAC 3745-18-03(B) and OAC 3745-18-03(C) which apply to sources in the Lake County nonattainment area and the Steubenville WV-OH interstate nonattainment area. These paragraphs are discussed below in section II C. EPA is proposing to approve OAC 3745-18-03.

OAC 3745-18-04 contains fuel test method requirements for Ohio facilities. Ohio revised OAC 3745-18-04 to update facility names and locations for sources with facility-specific coal test method requirements. Ohio removed facility-specific or county-specific coal test methods where they were no longer necessary, because the affected facilities are no longer operating, no longer using coal, or currently using other methods, such as a continuous emission monitoring system (CEMS), for determining compliance.

Ohio added one paragraph and removed another paragraph in OAC 3745-18-04(D), which are applicable to sources in the Lake County nonattainment area and the Steubenville WV-OH interstate nonattainment area. These paragraphs are discussed below in section II C.

Several paragraphs in OAC 3745-18-04 have not been previously approved by EPA, because they appeared to allow compliance determinations based on 30-day averaged emission calculations for emission limits which were intended to address NAAQS with averaging times of 24 hours and less. These paragraphs, OAC 3745-18-04(D)(2), (D)(3), (D)(5), (D)(6) and OAC 3745-18-04(E)(2), (E)(3) and (E)(4), have not been significantly revised in Ohio's March 13, 2017 submittal. As the previously identified deficiencies have not been adequately addressed, EPA proposes to take no action on these provisions, and they are not part of the SIP.¹

¹ When these provisions were originally submitted, EPA policy was generally to find that limits with compliance based on 30-day averaging did not assure attainment with standards based on shorter averaging times. In 2014, EPA issued guidance reflecting a new policy, indicating that it could find that limits with averaging times up to 30 days may provide for attainment in selected cases, subject to various criteria, most notably that the longer-term average limit reflect an adjustment so as to have comparable stringency to the 1-hour limit which had been demonstrated to provide for attainment. Ohio has not sought to demonstrate that these criteria are met on a state-wide basis, and so EPA has no new information that might warrant revisiting the approvability of these provisions.

In the March 13, 2017 submittal, OAC 3745-18-04(D)(9)(c) contains a typographical error which misnames the required method for coal sampling and analysis for facilities in Butler County. OAC 3745-18-04(D)(9)(c) was approved into Ohio's SO2 SIP without the typographical error on January 31, 2002 (67 FR 4669). EPA proposes to take no action on the March 13, 2017 submittal of OAC 3745-18-04(D)(9)(c). The paragraph will instead be retained in Ohio's SO2 SIP as it was previously approved.

Ohio made minor grammatical changes to OAC 3745-18-05, which covers requirements for ambient monitoring. EPA proposes to find these changes approvable.

Most of Ohio's county-specific rules, OAC 3745-18-07 through OAC 3745-18-94, have been updated significantly. Ohio removed facility-specific emission limits where the affected facilities have closed, or where the units which were subject to the previously approved rules have been retired or have converted to use lower sulfur fuels. Ohio confirmed the facilities' current emissions and emission limitations with its operating permits database. Each county-specific rule has retained its previously approved general SO2 emission limit, applicable to all coal-fired steam generating units in the county. CAA section 110(l) states that SIP revisions cannot be approved if they interfere with applicable requirements concerning attainment and reasonable further progress. EPA proposes to find that it is permissible under CAA section 110(l) to approve the revised rules in Ohio's March 13, 2017 SIP submittal where Ohio has removed obsolete emission limits for units which have permanently closed and for which the permits to operate have been revoked, as these rule revisions do not indicate permission to increase emissions.

C. Rules Addressing Nonattainment Areas

On August 5, 2013, EPA designated three areas nonattainment for SO2 in Ohio: Lake County, the Muskingum River area, and the Steubenville OH-WV interstate area. Ohio was required to prepare SIPs which would bring its three SO2 nonattainment areas into attainment by October 4, 2018. After evaluating local SO2 emissions and using dispersion models to determine the emission limits which could be expected to provide for attainment, Ohio revised its SO2 SIP rules to address SO2 sources within these nonattainment areas at OAC 3745-18-49 (Lake County) and OAC 3745-18-47 (Jefferson County). Ohio added related provisions in OAC 3745-18-03 and OAC 3745-18-04. Ohio first adopted these nonattainment area provisions in October 2015, but later made significant revisions and corrections to the rules. Ohio adopted the revised rules on February 6, 2017, and submitted them to EPA on March 13, 2017.

1. Lake County Area

The new and revised rules relevant to the Lake County nonattainment area include OAC 3745-18-03(B)(9), OAC 3745-18-03(C)(11), OAC 3745-18-04(D)(10), OAC 3745-18-49(F), OAC 3745-18-03(C)(3)(hh), and the removal of the previously approved paragraph OAC 3745-18-49(G). Ohio revised the Lake County rule at OAC 3745-18-49(F) to add new emission limits for the Painesville Municipal Electric Plant in Painesville, Ohio (the Painesville plant). OAC 3745-18-49(F) restricts the Painesville plant to operate only one of its three boilers on coal at any time; limits Boiler 5 to 287 pounds of SO2 per hour (lb/hr), averaged over 30 operating days; and limits Boilers 3 and 4 each to 340 lb/hr, averaged over 30 operating days. The combined average operating rate for the three boilers must not exceed 249 million British Thermal Units per hour (MMBtu/hr) for any calendar day, excluding heat input from burning natural gas or biomass. Each boiler is additionally limited to no more than a ten percent annual capacity factor as defined in 40 CFR 63.7575, excluding heat input from burning natural gas or biomass. The rule also defines biomass as an additional fuel source for this facility; the biomass would not be a significant source of SO2. The revisions to OAC 3745-18-49(F) represent a reduction in allowable SO2 emissions and operating rates for this facility.

Ohio added OAC 3745-18-03(B)(9) to require the Painesville plant to apply for a permit or permit modification to provide for compliance with its site-specific SO2 emission limits. Ohio added OAC 3745-18-03(C)(11) to require compliance with the revised site-specific rules for the Painesville plant as of thirty days from February 16, 2017, which is the effective date of the revised rules OAC 3745-18-03(C)(11) and OAC 3745-18-49(F). The Painesville plant's compliance date is the earliest compliance date practicable after Ohio revised the facility's previously adopted rules to address an issue EPA identified in Ohio's 2015 nonattainment SIP submittal for Lake County. Ohio added OAC 3745-18-04(D)(10) to provide the method for calculating compliance with the Painesville plant's revised emission limits in OAC 3745-18-49(F).

Ohio has removed the entry at OAC 3745-18-49(G) for the Eastlake Power Plant in Willoughby, Ohio (now known as the Eastlake Substation), because the boilers at the Eastlake Substation which were subject to OAC 3745-18-49(G) were permanently shut down in April 2015. OAC 3745-18-03(C)(3)(hh) still requires any remaining emission units at the Eastlake Substation to comply with the county-wide SO2 limits at OAC 3745-18-49(A). The shut-down units, however, may not restart without applying for a new permit. Because the Eastlake Substation has permanently retired its boilers and has thus significantly reduced its SO2 emissions, and because the Eastlake Substation no longer holds a permit to restart the boilers, EPA proposes to find that the removal from the SIP of the Eastlake Substation's boiler limits is permissible under CAA section 110(l).

EPA is proposing to approve the rule revisions in OAC 3745-18 which apply to the Painesville plant and the Eastlake Substation in Lake County, because the rules update the SIP and strengthen it by reducing allowable emissions. EPA is not proposing action regarding whether Ohio's revisions to OAC 3745-18-49 and related material satisfy nonattainment planning requirements for the Lake County nonattainment area. EPA intends to address whether Ohio has satisfied the nonattainment planning requirements for the Lake County nonattainment area in a separate action.

2. Muskingum River Area (Morgan and Washington Counties)

The rules relevant to the Muskingum River nonattainment area include OAC 3745-18-64 (Morgan County), OAC 3745-18-90 (Washington County) and OAC 3745-18-03(C)(3)(tt). The previously approved rules OAC 3745-18-64(B) and OAC 3745-18-90(B) contained identical SO2 emission limits for the Muskingum River power plant, located near Waterford, Ohio (the Muskingum River plant). The boilers at the Muskingum River plant were permanently shut down as of July 14, 2015, leaving no emission units at the Muskingum River plant which are subject to OAC 3745-18-64(B) or OAC 3745-18-90(B). These units have been removed from the facility's permit. The shut-down units may not restart unless the facility applies for and receives a new permit. Therefore, Ohio has removed the entries for the Muskingum River plant from OAC 3745-18-64(B) and OAC 3745-18-90(B). Ohio retained and renumbered paragraph OAC 3745-18-03(C)(3)(tt) for the Muskingum River plant and updated the facility's name to Muskingum River Development, LLC. OAC 3745-18-03(C)(3)(tt) requires any remaining SO2 emission units at the facility to comply with the limits specified in OAC 3745-18-90, which, as revised, contains only the Washington County general SO2 limit for coal-fired steam generating units at OAC 3745-18-90(A). Because the Muskingum River plant has permanently retired its large boilers and has thus significantly reduced its SO2 emissions, and because the Muskingum River plant no longer holds a permit to restart the boilers, EPA proposes to find that the removal from the SIP of the Muskingum River plant's boiler emission limits is permissible under CAA section 110(l). EPA is proposing to approve the rule revisions applicable to the Muskingum River plant because they update Ohio's SO2 SIP by removing obsolete emission limits while complying with CAA section 110(l). EPA is not proposing action regarding whether Ohio's revisions to OAC 3745-18-64(B), OAC 3745-18-90(B) and related material satisfy nonattainment planning requirements for the Muskingum River nonattainment area. EPA intends to address whether Ohio has satisfied the nonattainment planning requirements in a subsequent action.

3. Steubenville Area (Jefferson County)

The new and revised rules relevant to the Steubenville OH-WV interstate nonattainment area include the new paragraphs at OAC 3745-18-03(B)(9) and OAC 3745-18-03(C)(11), the revised emission limits in OAC 3745-18-47, and the removal of OAC 3745-18-04(D)(4). Ohio addressed three Jefferson County sources for the Steubenville nonattainment area: The Cardinal Power Plant in Brilliant, Ohio (the Cardinal plant), the Mingo Junction Steel Works, LLC facility in Mingo Junction, Ohio (Mingo Junction Steel Works), and the Mingo Junction Energy Center, LLC facility in Mingo Junction, Ohio, (Mingo Junction Energy Center). Ohio revised OAC 3745-18-47(D) for the Cardinal plant to limit each of units 1 and 2 to 1.065 pounds of SO2 per million British Thermal Units (lb/MMBtu) actual heat input. These limits, which reflect current permit conditions for the Cardinal plant, represent an SO2 emission reduction from the previously approved limits for the Cardinal plant, which had allowed 7.08 lb/MMBtu at units 1 and 2. Ohio also revised the emission limit for the Cardinal plant's unit 3 to 0.66 lb/MMBtu actual heat input and moved the listing to OAC 3745-18-47(D). Unit 3 had previously been listed under OAC 3745-18-47(O) as a unit operated by Buckeye Power, Incorporated, with a limit of 2.0 lb/MMBtu. EPA is proposing to approve these rule revisions because they update the Ohio SO2 SIP and strengthen it by reducing allowable SO2 emissions.

For Mingo Junction Steel Works, which was formerly listed in OAC 3745-18-47(G) as Wheeling-Pittsburgh Steel, Steubenville South Plant, Ohio has removed the obsolete emission limits in OAC 3745-18-47(G)(1) for Boilers 1 through 12 and the obsolete emission limits in OAC 3745-18-47(G)(2) for the forty-four-inch soaking pits combusting coke oven gas. The boilers have shut down and the Mingo Junction Steel Works no longer receives or uses coke oven gas as fuel; it now uses natural gas. Ohio added limits of 1.0 lb/hr for the facility's reheat furnaces 2 to 4 at OAC 3745-18-47(G)(3), a limit of 105.0 lb/hr for the electric arc furnace number 1 at OAC 3745-18-47(G)(4), and a limit of 14.0 lb/hr for the ladle metallurgical furnace to the electric arc furnace at OAC 3745-18-47(G)(5). EPA is proposing to approve these rule revisions because they update the Ohio SO2 SIP to reflect the current facility name and operations at Mingo Junction Steel Works. EPA is also proposing to approve OAC 3745-18-47(G) because it strengthens the SIP by reducing allowable emissions.

For the Mingo Junction Energy Center, the state has added OAC 3745-18-47(P) which limits units 1 to 4 to 0.0028 lb/MMBtu actual heat input each. This limit reflects a fuel change from coke oven gas to natural gas. EPA is proposing to approve this rule revision because it strengthens the Ohio SO2 SIP by reducing allowable emissions.

Ohio added OAC 3745-18-03(B)(9) to require Mingo Junction Steel Works and the Mingo Junction Energy Center to apply for a permit or permit modification to provide for compliance with their site-specific SO2 emission limits. (Cardinal's revised limits are already in its permit.) Ohio added OAC 3745-18-03(C)(11) to require compliance with the revised site-specific rules for the Cardinal plant, Mingo Junction Steel Works and the Mingo Junction Energy Center by January 1, 2017. This compliance date reflects the recommendations of EPA's nonattainment SIP guidance.

Ohio removed OAC 3745-18-04(D)(4), which gave a specific compliance test method for the Cardinal plant. The provision is no longer considered necessary due to the Cardinal plant's current limits, operations, and emission controls. The Cardinal plant is subject to the federally approved compliance test requirements in OAC 3745-18-04(D). Under its current operating permit, the Cardinal plant uses CEMS to determine compliance with its permitted emission limits.

EPA is proposing to approve the revised rules for the Cardinal plant, Mingo Junction Steel Works and the Mingo Junction Energy Center as measures which update the state's SO2 SIP and strengthen the SIP by reducing allowable emissions. EPA is not proposing action regarding whether Ohio's revisions to OAC 3745-18 for the Cardinal plant, Mingo Junction Steel Works and the Mingo Junction Energy Center, and related material, satisfy nonattainment planning requirements for the Steubenville OH-WV interstate nonattainment area. EPA intends to address whether Ohio has satisfied the nonattainment planning requirements for the Steubenville WV-OH nonattainment area in a subsequent action.

D. County-Specific Issues

1. Cuyahoga County

Ohio revised OAC 3745-18-24(V) regarding the Medical Center Company, located in Cleveland, to update the facility's operating unit names and to remove emission limits for units which have not been present at the facility since 2002. The Medical Center Company has recently replaced two boilers, 1N and 2N, with three new units having lower SO2 emissions. Ohio placed new requirements in a 2015 federally enforceable permit-to-install for the Medical Center Company, stating that the old boilers must be permanently retired by January 13, 2017. See final permit-to-install number P0118541. Ohio relied on the emission reductions from this boiler replacement during the designation process for the 2010 SO2 NAAQS. However, the Cuyahoga County rule at OAC 3745-18-24, as adopted February 6, 2017, and submitted to EPA on March 13, 2017, retained the Medical Center Company's previously approved emission limit of 4.6 lb/MMBtu for each of the old boilers. Although the rule retained the previously approved limit, the facility's boiler closure requirement and the lower SO2 emission limits applicable to its new units are federally enforceable in the facility's permit. EPA is proposing to approve the revised OAC 3745-18-24(V) as an update to the SIP, since this action would retain EPA's authority to enforce both limits.

Likewise, the emission limits for Cleveland Thermal, LLC, at OAC 3745-18-24(G) and OAC 3745-18-24(H), have been updated to revise the facility's name, address, and premise number, and to remove emission limits for units which shut down prior to 2002. The updated rules still contain limits for several units, B101, B102, B104, B001, B002, B003, B005, and B006, which Cleveland Thermal, LLC, was to retire or convert to auxiliary status by January 2017, in accordance with a consent decree. The consent decree is in force and Cleveland Thermal, LLC's federally enforceable permit no longer includes these units. EPA is proposing to approve the revised OAC 3745-18-24(G) and OAC 3745-18-24(H) as an update to the SIP, since this action would retain EPA's authority to enforce both limits.

The remainder of the Cuyahoga County rule has been revised to update facility names and locations and to remove emission limits for facilities which were no longer operating and for units which no longer operate at existing facilities. EPA is proposing to approve OAC 3745-18-24.

2. Lorain County

Ohio revised the Lorain County rule at OAC 3745-18-53(B) for the Avon Lake Power Plant (the Avon Lake plant) in Lorain County, to update facility identification and remove emission limits for units which were shut down between 1981 and 1997. In November 2016, Ohio placed new SO2 emission limits for the Avon Lake plant in a federally enforceable operating permit. The new limits, which were effective as of January 13, 2017, provided a combined emission limit of 1.59 lb/MMBtu for Boilers 10 and 12 on a 30-day average basis. See permit-to-install number P0121748. Ohio relied on these limits, which reduced the Avon Lake plant's allowable SO2 emissions, during the designation process for the 2010 SO2 NAAQS. However, the Lorain County rule, as adopted February 6, 2017, and submitted to EPA on March 13, 2017, retained the Avon Lake plant's previously approved emission limit of 4.65 lb/MMBtu for Boilers 10 and 12 each. Although the revised rule retained the previous, higher emission limit, the tighter SO2 emission limits within the Avon Lake plant's operating permit are federally enforceable. EPA is proposing to approve OAC 3745-18-53(B), since this action would retain EPA's authority to enforce both limits.

Ohio added paragraph OAC 3745-18-53(G) for U.S. Steel Seamless Tubular Operations, LLC—Lorain. This paragraph covers an emissions unit which was previously listed under OAC 3745-18-53(D), but has been transferred to a new location and a new owner within the city of Lorain, Ohio. The unit retains its previously approved emission limits of 1.98 lb/MMBtu and 178 lb/hr.

The remainder of the Lorain County rule has been revised to update facility names and locations, and to remove emission limits for facilities which were no longer operating and for units which no longer operate at existing facilities. EPA is proposing to approve OAC 3745-18-53.

3. Ross County

Ohio revised the Ross County rule at OAC 3745-18-77(B) for the P. H. Glatfelter Company-Chillicothe Facility (Glatfelter) in Ross County, to update facility identification and remove emission limits for units which have been shut down for many years. In 2016, Ohio placed a new facility-wide SO2 emission limit of 1,800 tons per year, effective January 13, 2017, in a federally enforceable permit for Glatfelter. See permit-to-install number P0118906. This limit reduced Glatfelter's allowable SO2 emissions, and Ohio relied on this limit during the designation process for the 2010 SO2 NAAQS. However, the Ross County rule, as adopted February 6, 2017, and submitted to EPA on March 13, 2017, retained Glatfelter's previously approved emission limit of 9.9 lb/MMBtu for Boilers 7 and 8 each. Although the rule retains the higher emission limit for Boilers 7 and 8, the tighter SO2 emission limit in Glatfelter's permit is federally enforceable. EPA is proposing to approve OAC 3745-18-77(B) as an update to the SIP, since this action would retain EPA's authority to enforce both limits.

The remainder of the Ross County rule has been revised to remove emission limits for facilities which were no longer operating and for units which no longer operate at existing facilities. EPA is proposing to approve OAC 3745-18-77.

4. Wayne County

In 2016, Ohio placed a new facility-wide SO2 emission limit of 1,475 tons per year, effective January 13, 2017, in a federally enforceable operating permit for the Department of Public Utilities, City of Orrville, Ohio facility (the Orrville plant) in Wayne County. See permit number P0120280. Ohio relied on this limit, which reduced the Orrville plant's allowable SO2 emissions, during the designation process for the 2010 SO2 NAAQS. The Wayne County rule at OAC 3745-18-91, as adopted February 6, 2017, and submitted to EPA on March 13, 2017, updated the Orrville plant's facility identification but retained the Orrville plant's previously approved emission limit of 7.0 lb/MMBtu for Boilers 10 to 13 each (OAC 3745-18-91(E)). Since the Orrville plant's tighter SO2 emission limit in its permit is federally enforceable, EPA is proposing to approve OAC 3745-18-91(E) as an update to the SIP, since this action would retain EPA's authority to enforce both limits.

In 2015, Ohio revised the federally enforceable permit for Morton Salt, Inc., in Rittman, Ohio, to reflect the facility's replacement of two boilers with new units with lower SO2 emissions. See permit number P0120758. Ohio relied on this boiler replacement and the resulting reduction in allowable SO2 emissions during the designation process for the 2010 SO2 NAAQS. The Wayne County rule at OAC 3745-18-91, as adopted February 6, 2017, and submitted to EPA on March 13, 2017, updated Morton Salt, Inc.'s facility identification but retained the facility's previously approved emission limit of 7.0 lb/MMBtu for Boilers 1 and 2 each (OAC 3745-18-91(F)). Since Morton Salt, Inc. has replaced its old boilers, and has federally enforceable SO2 emission limits for its new units in its permit, EPA is proposing to approve OAC 3745-18-91(F) as an update to the SIP, since this action would retain EPA's authority to enforce both limits.

The remainder of the Wayne County rule has been revised to remove emission limits for facilities which were no longer operating and for units which no longer operate at existing facilities. EPA is proposing to approve OAC 3745-18-91.

E. Removal of Rescinded Rule

On September 17, 2009, Ohio submitted revisions to its SIP, and requested that EPA remove OAC 3745-18-02, “Ambient air quality standards; sulfur dioxide,” from the SIP, because Ohio had rescinded OAC 3745-18-02 and moved its contents to a new rule, OAC 3745-25-02, “Ambient air quality standards,” effective April 18, 2009. This rule defined and listed the primary and secondary SO2 standards (prior to the 2010 SO2 NAAQS) and required ambient air quality sampling using the EPA Reference Method or an equivalent method. In accordance with Ohio's September 17, 2009, SIP revision request, EPA approved OAC 3745-25-02 into Ohio's SIP on October 26, 2010 (75 FR 65572), but EPA did not remove OAC 3745-18-02 from the SIP. Ohio's rule OAC 3745-25-02(B), effective on April 18, 2009, contained substantially identical rule language to the existing SIP version of OAC 3745-18-02 which was effective on January 23, 2006. As the rule language which was previously approved as OAC 3745-18-02 can now be found within Ohio's federally approved SIP at OAC 3745-25-02(B), the removal of rule OAC 3745-18-02 from the SIP is permissible under section 110(l) of the CAA. Therefore, EPA proposes to remove OAC 3745-18-02 from Ohio's SIP.

III. What action is EPA taking?

EPA is proposing to approve Ohio's March 13, 2017 submittal of OAC 3745-18-01; OAC 3745-18-03; OAC 3745-18-04 [with the exception of OAC 3745-18-04(D)(2), (D)(3), (D)(5), (D)(6), and (D)(9)(c), and OAC 3745-18-04(E)(2), (E)(3) and (E)(4)]; OAC 3745-18-05; and OAC 3745-18-07 through OAC 3745-18-94; as effective on February 16, 2017. EPA proposes to find that these regulations update and strengthen the Ohio SO2 SIP. EPA proposes to take no action on OAC 3745-18-04(D)(2), (D)(3), (D)(5), (D)(6), and (D)(9)(c), and OAC 3745-18-04(E)(2), (E)(3) and (E)(4). EPA proposes to remove OAC 3745-18-02 from the Ohio SO2 SIP.

IV. Incorporation by Reference

In this rule, EPA is proposing to include in a final EPA rule regulatory text that includes incorporation by reference. In accordance with requirements of 1 CFR 51.5, EPA is proposing to incorporate by reference Ohio rules OAC 3745-18-01; OAC 3745-18-03; OAC 3745-18-04 [with the exception of OAC 3745-18-04(D)(2), (D)(3), (D)(5), (D)(6), and (D)(9)(c), and OAC 3745-18-04(E)(2), (E)(3) and (E)(4)]; OAC 3745-18-05; and OAC 3745-18-07 through OAC 3745-18-94, as effective on February 16, 2017. EPA has made, and will continue to make, these documents generally available through www.regulations.gov, and at the EPA Region 5 Office (please contact the person identified in the For Further Information Contact section of this preamble for more information).

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Reporting and recordkeeping requirements, Sulfur oxides.

Dated: August 2, 2018.
Cathy Stepp,
Regional Administrator, Region 5.

[FR Doc. 2018-17587 Filed 8-15-18; 8:45 am]

BILLING CODE 6560-50-P